FEDERAL COMMUNICATIONS COMMISSION

47 CFR Part 73

[DA 02-314, MM Docket No. 01-313, RM-10251]

Digital Television Broadcast Service; Tulsa, OK

AGENCY: Federal Communications Commission.

ACTION: Final rule.

SUMMARY: The Commission, at the request of KTUL, LLC, licensee of station KTUL-TV, NTSC channels 58, Tulsa, Oklahoma, substitutes DTV channel 10 for DTV channel 58. See 66 FR 56794, November 13, 2001. DTV channel 10 can be allotted to Tulsa in compliance with the principle community coverage requirements of Section 73.625(a) at reference coordinates (35-58-08 N. and 95-36-55 W., with a power of 7, HAAT of 497 meters and with a DTV service population of 999 thousand.

With this action, this proceeding is terminated.

DATES: Effective April 1, 2002.

FOR FURTHER INFORMATION CONTACT: Pam Blumenthal, Mass Media Bureau, (202) 418-1600.

SUPPLEMENTARY INFORMATION: This is a synopsis of the Commission's Report and Order, MM Docket No. 01-313, adopted February 8, 2002, and released February 14, 2002. The full text of this document is available for public inspection and copying during regular business hours in the FCC Reference Information Center, Portals II, 445 12th Street, SW, Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, and 336.

§73.622 [Amended]

2. Section 73.622(b), the Table of Digital Television Allotments under Oklahoma, is amended by removing DTV channel 58 and adding DTV channel 10 at Tulsa.

Federal Communications Commission.
Barbara A. Kreisman,
Chief, Video Services Division, Mass Media Bureau.

[FR Doc. 02-4577 Filed 2-26-02; 8:45 am]

BILLING CODE 6712-01-P